DEPARTMENT OF AGRICULTURE

Animal and Plant Health Inspection Service

[Docket No. APHIS-2021-0081]

Deregulation of Chrysanthemum White Rust and the Importation of Chrysanthemum spp. Cuttings, and In Vitro Plantlets, and Synonymous Genera From Certain Countries Into the Continental United States

AGENCY: Animal and Plant Health Inspection Service, USDA.

ACTION: Notice of availability; reopening of comment period.

SUMMARY: We are reopening the comment period on a notice making available an economic evaluation relative to regulating chrysanthemum white rust as a quarantine pest, as well as a pest risk analysis regarding the importation of Chrysanthemum spp. and synonymous genera cuttings and in vitro plantlets into the United States. Based on comments received on an initial notice, we have revised the pest risk analysis. This action will allow interested persons time to review the revised documents and submit comments.

DATES: The comment period for the notice published on April 17, 2023 (88 FR 23390-23391) is reopened. We will consider all comments that we receive on or before June 26, 2025.

ADDRESSES: You may submit comments by either of the following methods:

• Federal eRulemaking Portal: Go to http://www.regulations.gov. Enter APHIS-2021-0081 in the Search field. Select the Documents tab, then select the Comment button in the list of documents.

• Postal Mail/Commercial Delivery: Send your comment to Docket No. APHIS-2021-0081, Regulatory Analysis and Development, PPD, APHIS, Station 2C-10.16, 4700 River Road, Unit 25, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Heather Coady and Ms. Shannon Jarman, Regulatory Policy Specialists, Plants for Planting Policy, Plant Protection and Quarantine, Animal and Plant Health Inspection Service, 5607 Sunnyside Ave., Beltsville, MD 20705; phone: (240) 935-1598; email: PPQ.NAPPRA@usda.gov.

SUPPLEMENTARY INFORMATION: Chrysanthemum white rust (CWR) is a fungal disease caused by the basidiomycete Puccinia horiana, Henn. The Animal and Plant Health Inspection Service (APHIS) considers CWR a quarantine pest. Under international standards, a quarantine pest is defined as “a pest of potential economic importance to the area endangered by it and not yet present there, or present but not widely distributed there and being officially controlled.” ¹

¹ See International Standards for Phytosanitary Measures No. 5, “Glossary of Phytosanitary Terms” found at https://www.fao.org/3/mc891e/mc891e.pdf.

Because CWR is considered a quarantine pest, APHIS' policy ² has provided that any CWR detection domestically triggers an eradication protocol requiring complete destruction of symptomatic plants and those nearby. The policy also has required fungicidal treatments be applied to asymptomatic plants. Affected growers or entities have borne the eradication expense for CWR.

² See https://www.aphis.usda.gov/plant_health/plant_pest_info/cwr/downloads/cwrplan.pdf.

APHIS has also placed regulatory restrictions and prohibitions on the importation of host material for CWR to prevent its introduction into the United States through such importation. The regulations in 7 CFR 319.37-1 through 319.37-23 govern the importation of plants for planting into the United States. Section 319.37-4 of the regulations provides that certain taxa of plants for planting are not authorized for importation into the United States pending pest risk analysis (NAPPRA) to prevent the introduction of quarantine pests into the United States.

Accordingly, unrooted cuttings and in vitro plantlets of Chrysanthemum spp., Leucanthemella serotina, and Nipponanthemum nipponicum and synonymous taxa (Dendranthema spp.,) from Belgium, Bolivia, Brazil, Colombia, Costa Rica, El Salvador, Ethiopia, Germany, Guatemala, Kenya, Mexico, the Netherlands, Nicaragua, Panama, Spain, Tanzania, Tunisia, Uganda, the United Kingdom, and Vietnam have been NAPPRA or required post entry quarantine and additional entry requirements. These restrictions are in place due to the risk that such importation may pose of introducing CWR. Additionally, unrooted cuttings, in vitro plantlets, and plants with roots of the same taxa from Canada have had additional entry requirements due to CWR.

Paragraph (e) of § 319.37-4 describes the process for removing taxa from the NAPPRA list. After receiving a request to remove taxa from the NAPPRA list, APHIS will conduct a pest risk analysis in response to such a request and make the pest risk analysis available for public review and comment. Following the close of the comment period, we will review all comments received and announce our decision regarding the request in a subsequent notice.

In accordance with that process, on April 17, 2023, we published in the Federal Register (88 FR 23390-23391, Docket No. APHIS-2021-0081) a notice ³ of availability in which we announced the availability, for review and comment, of a pest risk analysis that evaluated the risks associated with the importation of unrooted cuttings and in vitro plantlets of Chrysanthemum spp. and synonymous genera under a systems approach from Belgium, Bolivia, Brazil, Colombia, Costa Rica, El Salvador, Ethiopia, Germany, Guatemala, Kenya, Mexico, the Netherlands, Nicaragua, Panama, Spain, Tanzania, Tunisia, Uganda, the United Kingdom, and Vietnam into the continental United States. We also made available a pest list and commodity import evaluation document (CIED) regarding the importation of unrooted cuttings, in vitro plantlets, and plants with roots of the same Chrysanthemum spp. and synonymous genera from Canada under a separate protocol. Additionally, we made available to the public an economic evaluation (EE) relative to deregulating CWR fungus as a quarantine pest. Related to this notice and based on the recommendations of APHIS' EE, we proposed to change APHIS' policy so that CWR would no longer be considered of quarantine significance if detected domestically or on imported plants for planting.

³ To view the notice and the supporting documents, go to www.regulations.gov. Enter APHIS-2021-0081 in the Search field.

We solicited comments on the notice for 60 days, ending on June 16, 2023. We received 13 comments by that date. They were from businesses, industry trade groups, and government agencies.

Several commenters noted that we did not delineate “synonymous genera” in the initial notice and asked us what taxa were intended to be included by that term.

In consideration of the validity of these questions and after careful review, APHIS is modifying and updating the pest lists to clarify and refine references to regulatory taxa, consolidating into the pest list a separate pest list for Canada, and revising the CIED. We are also updating the list of affected nations and genera referenced in these documents to ensure all descriptions are clear and accurate in alignment with § 319.37-4 (which provides that certain taxa of plants for planting are not authorized for importation into the United States pending pest risk analysis); the USDA Agricultural Research Service's Germplasm Resource Information Network (GRIN) taxonomic data; the APHIS Plants for Planting Manual; and the Agricultural Commodity Import Requirements (ACIR) database.

We are reopening the comment period on Docket No. APHIS-2021-0081 for an additional 30 days. This action will allow interested persons time to review the updates and revisions to the pest risk analysis and to submit comments. The documents may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

We will also consider all comments received between June 17, 2023 (the day after the close of the original comment period) and the date of this notice.

Done in Washington, DC, this 20th day of May 2025.
Michael Watson,
Administrator, Animal and Plant Health Inspection Service.

[FR Doc. 2025-09443 Filed 5-23-25; 8:45 am]

BILLING CODE 3410-34-P